DEPARTMENT OF THE INTERIOR

[17XD4523WS/DWSN00000.000000/DS61200000/DP61203]

Invasive Species Advisory Committee

AGENCY: Office of the Secretary, Interior.

ACTION: Notice of meeting.

SUMMARY: Notice is hereby given of a meeting of the Invasive Species Advisory Committee (ISAC). The purpose of the ISAC is to provide advice to the National Invasive Species Council (NISC) on a broad array of issues related to preventing the introduction of invasive species and providing for their control and minimizing the economic, ecological, and human health impacts that invasive species cause.

DATES: The meeting will take place from 1:30 p.m. to 3:00 p.m. on Monday, March 29, 2017 (times are Eastern Daylight Time).

ADDRESSES: The meeting will be held via teleconference. The toll-free conference phone number and access code can be obtained by calling (202) 208-4122, or visiting the NISC Secretariat's Web site at www.invasivespecies.gov. Please note that the maximum capacity for the teleconference is 100 participants. For record keeping purposes, participants will be required to provide their name and contact information to the operator before being connected.

FOR FURTHER INFORMATION CONTACT: Ms. Kelsey Brantley, Operations and ISAC Coordinator, National Invasive Species Council Secretariat, 1849 C Street, MS 3530, NW., Washington, DC 20240; telephone (202) 208-4122; fax (202) 208-4118; email kelsey_brantley@ios.doi.gov.

SUPPLEMENTARY INFORMATION: The ISAC is established by the Secretary of the Interior, as authorized by Executive Order 13751, and is regulated by the Federal Advisory Committee Act (5 U.S.C. Appendix 2). The purpose of the ISAC is to provide advice to the NISC on a broad array of issues related to preventing the introduction of invasive species and providing for their control and minimizing the economic, ecological, and human health impacts that invasive species cause. The NISC is co-chaired by the Secretary of the Interior, the Secretary of Agriculture, and the Secretary of Commerce. The NISC provides national leadership regarding invasive species issues.

The purpose of a meeting is to convene the full ISAC to discuss and consider adoption of white papers generated by ISAC task teams on: (1) Federal-State Coordination, and (2) Federal-Tribal Coordination.

The meeting is open to the public. Members of the public are welcome to participate by accessing the teleconference line. Up to 15 minutes will be set aside for public comment. Persons wishing to make a comment are asked to provide a written request with a description of the general subject to Ms. Brantley at the above address no later than March 24, 2017. Any member of the public may submit written information and/or comments to Ms. Brantley for distribution at the ISAC meeting.

Public Disclosure of Comments. Before including your address, phone number, email address, or other personal identifying information in your comment, you should be aware that your entire comment—including your personal identifying information—may be made publicly available at any time. While you can ask us in your comment to withhold your personal identifying information from public review, we cannot guarantee that we will be able to do so.

Dated: March 14, 2017.
Jamie K. Reaser,
Executive Director, National Invasive Species Council Secretariat.

[FR Doc. 2017-05423 Filed 3-17-17; 8:45 am]

BILLING CODE 4334-63-P